DEPARTMENT OF DEFENSE

Department of the Army; Corps of Engineers

Notice of Availability of the Final Supplemental Environmental Impact Statement for the Nourishment of 25,000 Feet of Beach in Topsail Beach, Pender County, NC

AGENCY: Department of the Army, U.S. Army Corps of Engineers, DoD.

ACTION: Notice of availability.

SUMMARY: The U.S. Army Corps of Engineers (USACE), Wilmington District, Wilmington Regulatory Field Office has received a request for Department of the Army authorization, pursuant to Section 404 of the Clean Water Act and Section 10 of the Rivers and Harbors Act, from the Town of Topsail Beach to conduct a one-time interim beach fill project to protect oceanfront development and infrastructure until such time that a Federally authorized shore protection project can be implemented. The Corps has prepared a Final Supplemental Environmental Impact Statement (FSEIS) in accordance with the National Environmental Policy Act (NEPA). This FSEIS was developed as a supplement to the West Onslow Beach and New River Inlet (Topsail Beach), NC, General Reevaluation Report (GRR) and Environmental Impact Statement (EIS) (USACE, 2008) prepared by the Wilmington District Corps of Engineers (USACE or the Corps) to evaluate resources and environmental considerations involved with the proposed Federal Beach nourishment project. The purpose of this supplement is to fully evaluate the potential impacts of the private action proposed as an addition to the Federal Project and to evaluate alternatives to the proposed action. The private action is proposed to respond to current, substantial erosion occurring along the oceanfront shoreline of the Town of Topsail Beach, NC. While Federal budget priorities have made it difficult to obtain funds for civil works projects in general and beach protection projects in particular, the projected earliest construction date for the Federal project is 2012. State and agency review and comment on Final GRR and EIS were completed in summer 2008. The Recommended Plan outlined in the Final GRR and EIS includes use of all the identified borrow sites over the next 50 years pending further investigations during the development of detailed plans and specifications. Given the current status of the GRR-EIS and the need for Congressional authorization, funding, preparation of plans and specifications, and right-of-way acquisition, the Federal project may not be implemented until Fiscal Year 2012, or possibly later. Accordingly, the Town of Topsail Beach would like to construct an interim beach fill project to protect its development and infrastructure during the period between now and the time the Federal project is constructed. In order to account for any possible delays in the construction of the Federal project, a construction date of 2016 was used in the development of the alternatives and economic analysis for the interim project. This would maintain the baseline conditions described in the Final GRR and FSEIS.

ADDRESSES: Copies of comments and questions regarding the FSEIS may be addressed to: U.S. Army Corps of Engineers, Wilmington District, Regulatory Division. ATTN: File Number SAW-2006-40848-071, Post Office Box 1890, Wilmington, NC 28402-1890.

FOR FURTHER INFORMATION CONTACT: Questions about the proposed action and FSEIS can be directed to Mr. Dave Timpy, Wilmington Regulatory Field Office, telephone: (910) 251-4634.

SUPPLEMENTARY INFORMATION: 1. Project Description. The proposed project would be constructed as a one-time nourishment event that would protect oceanfront homes and the Town's infrastructures until the Federal project (West Onslow Beach and New River Inlet [Topsail Beach]) is constructed. The Applicant's Preferred Alternative is to place fill material within the oceanfront section of the Town located between Godwin Avenue on the south to a point 610 m (2,000 ft) northeast of Topsail Beach/Surf City town limits, southeast along a total ocean shoreline length of approximately 7.6 km (~ 4.7 mi). The proposed fill design consists of three sections: A 305 m (1,000 ft) transition on the south starting at a point opposite Godwin Avenue; a 6,700 m (22,000 ft) main fill section that extends to the Topsail Beach/Surf City town limits; and a 610 m (2,000 ft) northern transitional taper to the point of intersection with the existing beach. The main fill would consist of a horizontal berm constructed to an elevation of +1.8 m (6 ft) NAVD (+2.1m [7 ft] NGVD). The in-place volume of the beach fill could range from 800,000 cy to 975,000 cy. The applicant's preferred borrow area, Borrow Area X, is located offshore of New Topsail Inlet, an area which is not available for the construction of the Federal project due to its location within an area designated by the Coastal Barrier Resources Act (CBRA), more commonly known as a CBRA zone. Borrow Area X is also located landward of the 3-mile State territorial limit and would not require permits from the U.S. Minerals Management Service (MMS).

The proposed construction for the one-time beach fill is scheduled to occur within the environmental dredging window of November 16, 2009 through March 31, 2010.

Borrow Area X has been modified throughout the Project Delivery Team (PDT) process in an effort to avoid and minimize potential impacts to Essential Fish Habitat (EFH) (Figure 1). The original footprint of Borrow Area X including all five cuts was 151 acres. In response to concerns of the resource agencies the applicant modified Borrow Area X to relocate the landward edge of the borrow area further seaward to minimize any potential modification to the ebb tidal delta of New Topsail Inlet and the adjacent oceanfront and estuarine shorelines. The modified impact area within Borrow Area X was reduced to 127 acres, and minimized the proposed EFH impacts by 24 acres.

A summary of the modifications to Borrow Area X include: (1) The landward cuts (cuts one (1) and two (2)) have been eliminated, (2) the landward edge of cut three (3) has been moved 100 feet seaward in order to further avoid and minimize potential impacts to the ebb-tidal delta, and (3) cut six (6) has been added seaward of cut three (3) to account for the loss of volume. Cut six contains 126,950 cy of beach compatible sand which would result in a net loss of 42,566 cy from Borrow Area X. The total volume of material in Borrow Area X once modifications are taken into account totals 1,583,236 cy. However, the volume needed to maintain the design beach fill totals 1,286,000 cy.

Geotechnical Investigations. The offshore sand search investigations included bathymetric surveys, sidescan sonar surveys, seismic surveys, cultural resource surveys, vibracore collection and analysis, and ground-truth diver surveys to verify existence or non-existence of hard bottoms. The results of the offshore investigations coupled with the compatibility of the sand resource area, native beach sand, and Essential Fish Habitat (EFH) were used to define the selected borrow area. The applicants preferred borrow area, Borrow Area X, was further modified to reflect resource agency comments. All sediment compatibility assessments were based on State of North Carolina sediment compatibility standards that went into effect in February 2007.

Beach Fill Surveys & Design. Typical cross-sections of the beach along the Topsail Beach project area was surveyed. Nearshore profiles will extend seaward to at least the 30-foot NAVD depth contour. The total volume of beach fill to be placed in front of the existing development and infrastructure will be based on an evaluation of erosion of the project area from 2002 through the expected construction date of the Federal project. Additional offshore and inshore data for Lea/Hutaff Island were also obtained along the northern 5,000 feet of the island. This data was used in the evaluation of possible impacts associated with the removal of sediment from the selected offshore borrow area and for future impact evaluations following project implementation through the use of numerical modeling.

ENVIRONMENTAL RESOURCE COORDINATION & PERMITTING. The USACE prepared a General Reevaluation Report—Environmental Impact Statement (GRR-EIS) for the larger Federal shore protection project (June 2006). The Final GRR and EIS were released for public and agency review and comment in the summer of 2008. The interim beach fill project will be subject to Section 10 of the Rivers and Harbors Act, Section 404 of the Clean Water Act and the North Carolina's State Environmental Policy Act (SEPA).

Preliminary coordination with the USACE—Wilmington District resulted in a determination that a Department of the Army Individual Permit will be needed for project compliance with Sections 10 and 404. Similarly, coordination with the North Carolina Division of Coastal Management (NCDCM) determined that the project would require evaluation through SEPA. A Major Permit under the Coastal Area Management Act was issued by the North Carolina Division of Coastal Management on February 27, 2009.

2. Issues of particular concern. There are several potential environmental issues that are addressed in the FSEIS. Additional issues may be identified during the public review process. Issues initially identified as potentially significant include:

a. Potential impact to marine biological resources (benthic organisms, passageway for fish and other marine life) and Essential Fish Habitat (EFH), particularly hardbottoms.

b. Potential impact to Federally threatened and endangered marine mammals, birds, fish, and plants.

c. Potential impacts to water quality.

d. Potential increase in erosion rates to adjacent beaches.

e. Potential impacts to navigation, commercial and recreational.

f. Potential impacts to private and public property.

g. Potential impacts on public health and safety.

h. Potential impacts to recreational and commercial fishing.

i. The compatibility of the material for nourishment.

j. Potential economic impacts.

4. Alternatives. Several alternatives were considered for the proposed project. These alternatives were further formulated and developed during the scoping process and an appropriate range of alternatives, including the No Action and Non Structural alternative, are considered in the Final Supplemental EIS.

5. Scoping Process. Project Delivery Team meetings were held to receive comments and assess concerns regarding the appropriate scope and preparation of the FSEIS. Federal, State, and local agencies and other interested organizations and persons participated in these Project Delivery Team meetings.

The COE also consulted with the U.S. Fish and Wildlife Service under the Endangered Species Act and the Fish and Wildlife Coordination Act, and with the National Marine Fisheries Service under the Magnuson-Stevens Act and Endangered Species Act. The FSEIS has been revised in accordance with the comments submitted by these agencies. Additionally, the FSEIS has assessed the potential water quality impacts pursuant to Section 401 of the Clean Water Act, and is being coordinated with NCDCM to determine the projects consistency with the Coastal Zone Management Act.

6. Availability of the Final Supplemental EIS (FSEIS). The FSEIS has been published and circulated, and is available for review at the office of U.S. Army Corps of Engineers, Wilmington District, Regulatory Division Office located at 69 Darlington Avenue, Wilmington, North Carolina.

Brenda S. Bowen,
Army Federal Register Liaison Officer.

[FR Doc. E9-7380 Filed 4-1-09; 8:45 am]

BILLING CODE 3720-58-P